DEPARTMENT OF COMMERCE

Foreign-Trade Zones Board

[B-7-2013]

Authorization of Production Activity; Foreign-Trade Subzone 29C; GE Appliances (Electric Water Heaters); Louisville, Kentucky

On January 7, 2013, GE Appliances, operator of Subzone 29C in Louisville, Kentucky, submitted a notification of proposed production activity to the Foreign-Trade Zones (FTZ) Board.

The notification was processed in accordance with the regulations of the FTZ Board (15 CFR part 400), including notice in the Federal Register inviting public comment (78 FR 7394-7395, 2-1-2013). The FTZ Board has determined that no further review of the activity is warranted at this time. The production activity described in the notification is authorized, subject to the FTZ Act and the FTZ Board's regulations, including Section 400.14.

Dated: May 7, 2013.
Andrew McGilvray,
Executive Secretary.

[FR Doc. 2013-11317 Filed 5-13-13; 8:45 am]

BILLING CODE 3510-DS-P